DEPARTMENT OF VETERANS AFFAIRS

[OMB Control No. 2900-0781]

Proposed Information Collection (Disability Benefits Questionnaire (Group 4)) Activity Under OMB Review

AGENCY: Veterans Benefits Administration, Department of Veterans Affairs.

ACTION: Notice.

SUMMARY: In compliance with the Paperwork Reduction Act (PRA) of 1995 (44 U.S.C. 3501-21), this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before June 10, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0781” in any correspondence.

FOR FURTHER INFORMATION CONTACT: Cynthia Harvey-Pryor, Enterprise Records Service (005R1B), Department of Veterans Affairs, 810 Vermont Avenue NW, Washington, DC 20420, (202) 632-7492 or email cynthia.harvey-pryor@va.gov. Please refer to “OMB Control No. 2900-0781” in any correspondence.

SUPPLEMENTARY INFORMATION: Title: Disability Benefits Questionnaires (Group 4).

OMB Control Number: 2900-0781.

Type of Review: Revision of a currently approved collection.

Abstract: The VA Form 21-0960 series will be used to gather necessary information from a claimant's treating physician regarding the results of medical examinations. VA will gather medical information related to the claimant that is necessary to adjudicate the claim for VA disability benefits.

Affected Public: Individuals or households.

Estimated Annual Burden: 53,750.

Estimated Average Burden per Respondent:

i. VAF 21-0960C-3—30 minutes.

ii. VAF 21-0960C-6—15 minutes.

iii. VAF 21-0960C-7—15 minutes.

iv. VAF 21-0960C-11—15 minutes.

v. VAF 21-0960D-1—15 minutes.

vi. VAF 21-0960E-2—15 minutes.

vii. VAF 21-0960E-3—15 minutes.

viii. VAF 21-0960H-1—15 minutes.

ix. VAF 21-0960I-2—15 minutes.

x. VAF 21-0960I-3—15 minutes.

xi. VAF 21-0960I-4—30 minutes.

xii. VAF 21-0960I-5—15 minutes.

xiii. VAF 21-0960J-4—15 minutes.

xiv. VAF 21-0960L-1—30 minutes.

xv. VAF 21-0960N-3—15 minutes.

xvi. VAF 21-0960N-4—30 minutes.

xvii. VAF 21-0960Q-1—15 minutes.

Frequency of Response: One time.

Estimated Number of Respondents: 160,000.

By direction of the Secretary.
Kathleen M. Manwell,
Program Analyst, VA Privacy Service, Office of Privacy and Records Management, Department of Veterans Affairs.

[FR Doc. 2016-11048 Filed 5-10-16; 8:45 am]

BILLING CODE 8320-01-P